SECURITIES AND EXCHANGE COMMISSION

Submission for OMB Review; Comment Request

Upon Written Request Copies Available From: Securities and Exchange Commission, Office of Investor Education and Advocacy, Washington, DC 20549-0213.

Extension:

Electronic Data Collection System, SEC File No. 270-621, OMB Control No. 3235-0672.

Notice is hereby given that, pursuant to the Paperwork Reduction Act of 1995 (44 U.S.C. 3501 et seq.), the Securities and Exchange Commission (“Commission”) is soliciting comments on the collection of information summarized below. The Commission plans to submit this extension for a current collection of information to the Office of Management and Budget for approval. The Securities and Exchange Commission has implemented an Electronic Data Collection System database (the Database) and invites comment on the Database that supports information provided by the general public that would like to file a tip or complaint with the Commission. The Database is a web based e-filed dynamic report based on technology that pre-populates and establishes a series of questions based on the data that the individual enters. The individual then completes specific information on the subject(s) and nature of the suspicious activity, using the data elements appropriate to the type of complaint or subject. There are no costs associated with this collection. The public interface to the Database is available using the Tips, Complaints and Referrals Portal. Information is provided voluntarily.

Estimated number of annual responses = 13,120.

Estimated annual reporting burden = 6,560 hours (30 minutes per submission).

Written comments are invited on: (a) Whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Background documentation for this information collection may be viewed at the following Web site, www.reginfo.gov. Please direct general comments to the following persons: (i) Desk Officer for the Securities and Exchange Commission, Office of Management and Budget, Room 10102, New Executive Office Building, Washington, DC 20503 or send an email to Shagufta Ahmed at Shagufta_Ahmed@omb.eop.gov; Thomas Bayer, Director/Chief Information Officer, Securities and Exchange Commission, c/o Remi Pavlik-Simon, 100 F St. NE., Washington, DC 20549; or send an email to: PRA_Mailbox@sec.gov. Comments must be submitted within 30 days of this notice.

Dated: June 6, 2014.
Kevin M. O'Neill,
Deputy Secretary.

[FR Doc. 2014-13702 Filed 6-11-14; 8:45 am]

BILLING CODE 8011-01-P